DEPARTMENT OF ENERGY

Federal Energy Regulatory Commission

Combined Notice of Filings #1

November 27, 2006.

Take notice that the Commission received the following electric corporate filings:

Docket Numbers: EC07-24-000.

Applicants: Endeavor Power Partners, LLC; Osceola Windpower, LLC.

Description: Endeavor Power Partners, LLC and Osceola Windpower, LLC submit a joint application for authorization to dispose of jurisdictional facilities to acquire an existing Generation Facility.

Filed Date: 11/17/2006.

Accession Number: 20061122-0125.

Comment Date: 5 p.m. Eastern Time on Friday, December 8, 2006.

Take notice that the Commission received the following electric rate filings

Docket Numbers: ER06-615-003.

Applicants: California Independent System Operator Corporation.

Description: California Independent System Operator Corp submits a compliance filing pursuant to the Commission's 9/21/06 Order.

Filed Date: 11/20/2006.

Accession Number: 20061122-0123.

Comment Date: 5 p.m. Eastern Time on Monday, December 11, 2006.

Docket Numbers: ER06-729-003.

Applicants: Southwest Power Pool, Inc.

Description: Southwest Power Pool, Inc submits a compliance filing to the Commission's 10/19/06 Order.

Filed Date: 11/20/2006.

Accession Number: 20061122-0193.

Comment Date: 5 p.m. Eastern Time on Monday, December 11, 2006.

Docket Numbers: ER06-869-001.

Applicants: Consolidated Edison Company of New York.

Description: Consolidated Edison Co of New York, Inc submits amendments to its Electric Tariff Rate Schedules 96 and 92 in compliance with the Commission's 5/15/06 letter order.

Filed Date: 11/20/2006.

Accession Number: 20061121-0273.

Comment Date: 5 p.m. Eastern Time on Monday, December 11, 2006.

Docket Numbers: ER06-1308-003.

Applicants: Midwest Independent Transmission System Operator, Inc.

Description: Midwest Independent Transmission System Operator submits a second errata to its 11/6/06 compliance filing, revisions to Schedules 10-C, 16-A and 17-A of its OAT&EM Tariff.

Filed Date: 11/21/2006.

Accession Number: 20061124-0079.

Comment Date: 5 p.m. Eastern Time on Tuesday, December 12, 2006.

Docket Numbers: ER06-1537-001.

Applicants: Public Service Company of New Mexico.

Description: Public Service Company of New Mexico submits notices of cancellation of Rate Schedules 149 and 121 in compliance with the Commission's 11/15/06 letter order.

Filed Date: 11/20/2006.

Accession Number: 20061122-0185.

Comment Date: 5 p.m. Eastern Time on Monday, December 11, 2006.

Docket Numbers: ER07-235-000.

Applicants: Midwest Independent Transmission System Operator, Inc.

Description: Midwest Independent Transmission System Operator, Inc submits proposed designation of an additional Narrow Constrained Area.

Filed Date: 11/20/2006.

Accession Number: 20061122-0192.

Comment Date: 5 p.m. Eastern Time on Monday, December 11, 2006.

Docket Numbers: ER07-236-000.

Applicants: Carolina Power and Light Company.

Description: California Power and Light Company submits an amendment to its Large Generator Interconnection Agreement filed on 2/1/06.

Filed Date: 11/20/2006.

Accession Number: 20061122-0190.

Comment Date: 5 p.m. Eastern Time on Monday, December 11, 2006.

Docket Numbers: ER07-237-000; EC05-104-002.

Applicants: Monogahela Power Company; Allegheny Energy, Inc.; The Potomac Edison Company; Allegheny Energy Supply Company, LLC.

Description: Monogahela Power Company et al. submit a Motion to amend application for authorization of disposition of jurisdictional assets and filing of related jurisdictional contract, Power Sales Agreement.

Filed Date: 11/17/2006.

Accession Number: 20061122-0191.

Comment Date: 5 p.m. Eastern Time on Friday, December 8, 2006.

Docket Numbers: ER07-239-000.

Applicants: BG Energy Merchants, LLC.

Description: BG Energy Merchants, LLC submits a petition for acceptance of Initial Rate Tariff, Waivers and Blanket Authority.

Filed Date: 11/21/2006.

Accession Number: 20061124-0086.

Comment Date: 5 p.m. Eastern Time on Tuesday, December 12, 2006.

Docket Numbers: ER07-240-000.

Applicants: Twin Buttes Wind LLC.

Description: Twin Buttes Wind LLC submits an application for market-based rate authority under Section 205 of the Federal Power Act and request for waivers and pre-approvals.

Filed Date: 11/21/2006.

Accession Number: 20061124-0087.

Comment Date: 5 p.m. Eastern Time on Tuesday, December 12, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E6-20466 Filed 12-1-06; 8:45 am]

BILLING CODE 6717-01-P